DEPARTMENT OF LABOR

Office of the Secretary

29 CFR Part 10

RIN 1235-AA10

Establishing a Minimum Wage for Contractors

AGENCY: Wage and Hour Division, Department of Labor.

ACTION: Extension of comment period.

SUMMARY: This document extends the period for filing written comments until July 28, 2014 on the proposed rulemaking to implement the minimum wage protections of Executive Order 13658, Establishing a Minimum Wage for Contractors. The Notice of Proposed Rulemaking (NPRM) was published in the Federal Register on June 17, 2014. The Department of Labor (Department) is taking this action in order to provide interested parties additional time to submit comments.

DATES: The comment period for the proposed rule published June 17, 2014, at 79 FR 34568, is extended. The agency must receive comments on or before July 28, 2014.

ADDRESSES: You may submit comments, identified by Regulatory Information Number (RIN) 1235-AA10, by either one of the following methods:

Electronic comments: through the Federal eRulemaking Portal at http://www.regulations.gov. Follow the instructions for submitting comments.

Written comments: through mail addressed to Mary Ziegler, Director, Division of Regulations, Legislation and Interpretation, Wage and Hour Division, U.S. Department of Labor, Room S-3510, 200 Constitution Avenue NW., Washington, DC 20210.

Instructions: Please submit one copy of your comments by only one method. All submissions received must include the agency name (Wage and Hour Division) and Regulatory Information Number identified above for this rulemaking (1235-AA10). All comments received will be posted without change to http://www.regulations.gov, including any personal information provided. Consequently, prior to including any individual's personal information such as Social Security Number, home address, telephone number, email addresses and medical data in a comment, the Department urges commenters to carefully consider that their submissions are a matter of public record and will be publicly accessible on the Internet. It is the commenter's responsibility to safeguard his or her information. Because we continue to experience delays in receiving mail in the Washington, DC area, commenters are strongly encouraged to transmit their comments electronically via the Federal eRulemaking Portal at http://www.regulations.gov or to submit them by mail early. For additional information on submitting comments and the rulemaking process, see the “Public Participation” heading of the SUPPLEMENTARY INFORMATION section of this document.

Docket: For access to the docket to read background documents or comments received, go to the Federal eRulemaking Portal at http://www.regulations.gov.

FOR FURTHER INFORMATION CONTACT: Mary Ziegler, Director, Division of Regulations, Legislation and Interpretation, Wage and Hour Division, U.S. Department of Labor, Room S-3510, 200 Constitution Avenue NW., Washington, DC 20210; telephone: (202) 693-0406 (this is not a toll-free number). Copies of the NPRM may be obtained in alternative formats (large print, braille, audio tape, or disc) upon request by calling (202) 693-0023. TTY/TDD callers may dial toll-free (877) 889-5627 to obtain information or request materials in alternative formats.

Questions of interpretation or enforcement of regulations issued by this agency or referenced in this document may be directed to the nearest Wage and Hour Division District Office. Locate the nearest office by calling the Wage and Hour Division's toll-free help line at (866) 4US-WAGE ((866) 487-9243) between 8 a.m. and 5 p.m. in your local time zone, or log onto the Wage and Hour Division's Web site for a nationwide listing of Wage and Hour District and Area Offices at http://www.dol.gov/whd/america2.htm.

SUPPLEMENTARY INFORMATION:

I. Electronic Access and Filing Comments

Public Participation: The NPRM is available through the Federal Register and the http://www.regulations.gov Web site. You may also access the NPRM through the Department's Web site at http://www.dol.gov/federalregister. To comment electronically on federal rulemakings, go to the Federal eRulemaking Portal at http://www.regulations.gov, which will allow you to find, review, and submit comments on federal documents that are published in the Federal Register and open for comment. Please identify all comments submitted in electronic form by the RIN Docket Number (1235-AA10). Because of delays in receiving mail in the Washington, DC area, in order to ensure timely receipt prior to the close of the comment period, commenters should transmit their comments electronically through the Federal eRulemaking Portal at http://www.regulations.gov or submit them by mail early. Please submit one copy of your comments by only one method.

II. Request for Comment

The Department is proposing regulations to implement Executive Order 13658, Establishing a Minimum Wage for Contractors. The Executive Order seeks to increase efficiency and cost savings in the work performed by parties that contract with the Federal Government by raising the hourly minimum wage paid by those contractors to workers performing work on covered federal contracts to: (i) $10.10 per hour, beginning January 1, 2015; and (ii) beginning January 1, 2016, and annually thereafter, an amount determined by the Secretary of Labor. The NPRM incorporates existing definitions, procedures, remedies, and enforcement processes under the Fair Labor Standards Act, the Service Contract Act, and the Davis-Bacon Act.

On February 12, 2014, President Obama signed Executive Order 13658, which directed the Department to issue regulations to implement the requirements of the Executive Order by October 1, 2014. On June 12, 2014, the Department posted on its Web site an overview of the Executive Order and the NPRM comment process. The Department published the NPRM in the Federal Register on June 17, 2014 (79 FR 34568), complete with background information, economic impact analysis and proposed regulatory text. The NPRM also requested that interested parties from the public submit comments on the NPRM on or before July 17, 2014.

The Department has received requests to extend the period for filing public comments from government and business organizations. Because of the interest that has been expressed in this matter, the Department has decided to provide an extension of the period for submitting public comment until July 28, 2014.

Dated: June 30, 2014.
David Weil,
Administrator, Wage and Hour Division.

[FR Doc. 2014-15767 Filed 7-7-14; 8:45 am]

BILLING CODE 4510-27-P